DEPARTMENT OF COMMERCE

National Institute of Standards and Technology

Public Forum on Urban Search and Rescue Robot Performance Standards

AGENCY: National Institute of Standards and Technology, Commerce.

ACTION: Meeting notice.

SUMMARY: The National Institute of Standards and Technology (NIST) will host, in conjunction with the Department of Homeland Security (DHS), a public meeting from 9 a.m. to 4 p.m. on May 13, 2005 at the NIST campus in Gaithersburg, MD. This meeting pertains to a new DHS Program to develop comprehensive standards related to the development, testing, and certification of effective technologies for Urban Search and Rescue (US&R) robotics. These US&R robotic performance standards cover sensing, mobility, navigation, planning, integration, and operator control in order to ensure that the robots can meet operational requirements under the extremely challenging conditions that rescuers are faced with, including long endurance missions. The standards will also address issues of robotic component interoperability to reduce costs. The US&R robotic standards effort focuses on fostering collaboration between first responders, robot vendors, and technology developers to advance consensus standards for task specific robot capabilities and interoperability of components. These standards will allow DHS to provide guidance to local, state, and federal homeland security entities regarding the purchase, deployment and use of US&R robotic systems. The meeting is intended as a method of disseminating information pertaining to this newly initiated program. Attendees at the May 13 forum are expected to include: robot platform vendors, robot peripherals and software providers, sensor (chemical, biological, radiological, nuclear, environmental) providers, researchers working on robotic components, platforms, and algorithms, government agencies working on applicable robotic technologies and sensors, federal, state, and local responders and response agencies, and testing and evaluation sites and laboratories. There will be an $80 charge for this meeting and pre-registration is required. An electronic registration site will be available at http://www.isd.mel.nist.gov/US&R_Robot_Standards.

DATES: The forum will begin on May 13, 2005 at 9 a.m. and conclude at 4:00 p.m.

ADDRESSES: The workshop will be held at the National Institute of Standards and Technology, Gaithersburg, MD. Directions and instructions for registration in order to gain admittance to the site are available at http://www.isd.mel.nist.gov/US&R_Robot_Standards.

FOR FURTHER INFORMATION CONTACT: Elena Messina, Leader, Knowledge Systems Group, 100 Bureau Drive/MS 8230, Gaithersburg, MD 20899-8230. Telephone (301) 975-3235 or e-mail usar.robots@nist.gov.

Dated: April 7, 2005.
Hratch G. Semerjian,
Acting Director.

[FR Doc. 05-7502 Filed 4-13-05; 8:45 am]

BILLING CODE 3510-13-P